COMMODITY FUTURES TRADING COMMISSION

Sunshine Act Meeting; Emergency Meeting Notice

This notice that an emergency meeting was held is published pursuant to the provisions of the Government in the Sunshine Act, Public Law 94-409, 5 U.S.C. 552b.

AGENCY HOLDING THE MEETING: Commodity Futures Trading Commission.

TIME AND DATE: The Commission held an emergency closed meeting on November 9, 2011 at approximately 11:10 a.m. The Commission, by a recorded vote of 4-0, determined that the business of the agency required that the meeting be held at that time. The Chairman of the Commission did not participate in this meeting.

PLACE: Three Lafayette Center, 1155 21st St., NW., Washington, DC, 9th Floor Commission Conference Room.

STATUS: Closed.

MATTERS TO BE CONSIDERED: Registrant Financial Matters.

CONTACT PERSON FOR MORE INFORMATION: Sauntia S. Warfield, Assistant Secretary of the Commission, 202-418-5084.

David A. Stawick,
Secretary of the Commission.

[FR Doc. 2011-29589 Filed 11-10-11; 4:15 pm]

BILLING CODE 6351-01-P